FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 40901 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

A & E Logistics, Inc. (NVO & OFF), 3011 S. Poplar Avenue, Chicago, IL 60608, Officer: Alison Chan, President (Qualifying Individual), Application Type: New NVO & OFF License.

American International Shipping (NVO), 1811 West Katella Avenue, #121, Anaheim, CA 92804, Officers: Azita Fetanat, Vice President (Qualifying Individual), Mahmood Ansari, President, Application Type: QI Change.

Baggio USA, Inc. (NVO & OFF), 150 SE. 2nd Avenue, Suite 1010, Miami, FL 33131, Officers: Marco Maraschin, Assistant Secretary (Qualifying Individual), Paolo M. Baggio, President, Application Type: New NVO & OFF License.

Bonaberi Shipping & Moving, Inc. (NVO & OFF), 6917 Kent Town Drive, Hyattsville, MD 20785, Officer: Tse E. Bangarie, President (Qualifying Individual), Application Type: New NVO & OFF License.

C & C Group, Inc. (NVO & OFF), 1409 NW. 84th Avenue, Doral, FL 33126, Officer: Claudia E. Quintero, President (Qualifying Individual), Application Type: New NVO & OFF License.

Carex Shipping, LLC (NVO), 442 Greg Avenue, #106, Santa Fe, NM 87501, Officer: Michael Sekirin, President (Qualifying Individual), Application Type: Add Trade Name International Shipping Services, LLC.

Hyun Dae Trucking Co., Inc. (NVO), 3022 S. Western Avenue, Los Angeles, CA 90018, Officers: Sang B. Lee, President (Qualifying Individual), Diane Kook, Vice President, Application Type: License Transfer to Hyundae Global Express, Inc./QI Change.

RDD Freight International (Atlanta), Inc. (NVO & OFF), 7094 Peachtree Industrial Boulevard, Suite 188, Norcross, GA 30071, Officers: Bill Lou, President (Qualifying Individual), Hongyi Chen, Secretary, Application Type: License Transfer to Winwell Logistics, Inc.

Translogistic USA Service, Inc. (NVO & OFF), 7950 NW. 53rd Street, Suite 214, Miami, FL 33166, Officers: Claudia Gonzalez, Treasurer (Qualifying Individual), Pedro Lares, Director, Application Type: New NVO & OFF License.

By the Commission.
Dated: August 3, 2012.
Rachel E. Dickon,
Assistant Secretary.

[FR Doc. 2012-19412 Filed 8-7-12; 8:45 am]

BILLING CODE 6730-01-P